FEDERAL ELECTION COMMISSION

11 CFR Part 104

[Notice 2002-8]

Brokerage Loans and Lines of Credit

Correction

In rule document 02-13689 beginning on page 38353 in the issue of Tuesday, June 4, 2002 make the following correction:

§ 104.3 [Corrected]

On page 38360, in the second column, in §104.3 (a)(3)(vii)(A), in the first paragraph, in the first line, “(A)” should read, “(B)”.

[FR Doc. C2-13689 Filed 1-3-03; 8:45 am]

BILLING CODE 1505-01-D